DEPARTMENT OF THE INTERIOR

National Park Service

Record of Decision; Final Chiricahua General Management Plan Final Environmental Impact Statement Chiricahua National Monument; Arizona

The Department of the Interior, National Park Service has prepared this Record of Decision on the Chiricahua National Monument General Management Plan and Final Environmental Impact Statement for Chiricahua National Monument. This Record of Decision includes a description of the background of the project, a statement of the decision made, synopses of other alternatives considered, the basis for the decision, findings on impairment of park resources and values, a description of the environmentally preferable alternative, a listing of measures to minimize environmental harm, and an overview of public and agency involvement in the decision-making process.

Background of the Project

The General Management Plan (GMP) for Chiricahua National Monument will be the first comprehensive development planning for. The purpose of the GMP is to decide what resource conditions and visitor experiences should ultimately be achieved and maintained throughout the park. The process started in early May 1998 and involved joint scoping for GMPs for both Chiricahua NM and Fort Bowie NHS. A newsletter invited the public to attend meetings to discuss both plans. Notices of the public meetings were also sent to nearby newspapers. Four meetings were held the week of May 18th in the towns of Portal, Willcox, and Bowie, and at a school just outside of Chiricahua NM. A total of 19 people attended the meetings. The GMP process was described at each meeting, as were the two parks. There was general appreciation expressed for the parks, and recommendations were made not to change them. All suggestions were discussed and notes were taken. Another 24 mailed responses were received from newspaper readers. Letters were also sent to six Apache tribes and one nation in Arizona, New Mexico, and Oklahoma, and to two interested individual American Indians. No responses were received.

Notice of Intent to publish an Environmental Impact Statement was published in the Federal Register in June of 1999. A 30-day public comment period followed ending on July 15, 1999. A website (http://www.nps.gov/planning/chir) was established to facilitate making information about the planning process available to the public. A total of 5 responses were received requesting information on the planning process. Groups included one organization interested in land issues, one interested in handicapped accessibility, and two unaffiliated individuals.

The purpose of the Chiricahua General Management Plan is to present a comprehensive management plan and guide the management of the Chiricahua National Monument for the next 12 to 15 years. Three alternatives were considered'a no-action and two action alternatives. The No Action Alternative represents the status quo for Chiricahua National Monument. The two action alternatives, Alternatives A (the NPS Proposal) and Alternative B, presented in the Final Chiricahua General Management Plan/FEIS are based on a thorough consideration of the best-available information on park resources and the visitor experience. Each of the two action alternatives in the Final Chiricahua General Management Plan/FEIS presents a distinct vision for preserving the resources that contribute to Chiricahua National Monument's cultural and natural values while making the resources available to people for their enjoyment, education, and recreation.

Decision (Selected Action)

The National Park Service will implement Alternative A as described in the Chiricahua National Monument General Management Plan and Final Environmental Impact Statement issued in March 2001. The selected alternative provides an overall combination of actions to restore natural processes, preserve cultural resource values, reduce harmful environmental impacts and continue to provide opportunities for high quality visitor experiences based on resource values. With the exceptions described below, the current level of development and interpretation and the pattern of visitor use would be maintained. In summary, the following would be implement. This is also documented in more detail in the plan.

Park Road—The historic significance and character of the road are its greatest values and would be protected under the proposal. With possible minor exceptions for safety, the existing width and alignment of the road would be permanently retained. Any road work (drainage, replacement of base, etc.) would be done in such a way as to preserve the road's special character. Along the road margins, vegetation and trees would be cleared and/or removed in order to restore views of park and distant features from the road. In order to protect the roadside environment, pullouts, trailheads, and parking areas along the road would not be enlarged.

Bonita Picnic Area—In addition to a resting and sitting area, this place, which is the first encountered by the entering visitor, serves as the beginning of a foot trail that goes almost to the visitor center. The section from the picnic area to the Stafford Cabin would be made accessible to visitors with mobility impairments.

Faraway Ranch—After the cultural landscape report of the ranch grounds has been completed, NPS would select appropriate landscape restoration treatment for the main part of the ranch, including the appropriate vegetation and selected fences, corrals, and other structures. The Faraway historic vernacular landscape and CCC historic designed landscape areas would continue to be managed as historic landscape resources, and modifications for visitor safety and accessibility would be made so as to not reduce the integrity of these areas. The integrity of all landscape areas and features (historic vegetation, structures such as the Faraway pool, etc.) would be maintained, as would the integrity of the CCC area's design principles and use of materials. Overhead power and telephone lines would be removed and installed underground from the park entrance through the historic district and on to the visitor center, housing, and campground.

All ranch buildings open to the public and the trail along Bonita Creek from the picnic area to Stafford Cabin would be made accessible for visitors with mobility impairments.

Most administrative functions that now occupy historic Faraway Ranch structures, including collections, would move to the proposed headquarters and administrative facility, and most of the vacated space would be available for visitor use and interpretation. The upper floor of the house would remain available to the interpreters as a work and storage space, and the garage would continue to be used as a maintenance facility. When administrative functions are removed from the guest house, the entire structure would be used as an employee residence in order to provide an on-site employee presence.

Under the proposal, the ranch house would be provided with climate control to protect the historic furnishings and with a fire suppression system to protect the house and its contents.

The current 10,000-gallon water tank is insufficient for fire control on the ranch. The ranch would be connected to the main visitor center/housing area water system. A standpipe would be installed near the parking lot for wildfire suppression.

When the water system is extended to the ranch parking area, consideration would be given to providing hollow conduits for the future installation of electric service, if needed.

The current two-way trail from the ranch parking area to the ranch house and Stafford Cabin would be enlarged to a loop trail, starting and ending at the parking area and representing the historic circulation more accurately.

Headquarters and Visitor Orientation Facility—Under the proposal, a new combined headquarters/visitor orientation facility would be built outside the park. One park goal is for no further development to take place within the park. For the visitors to be properly oriented to the park's attractions, they should reach the headquarters/visitor orientation facility before entering the park, but not so far away from the boundary that the connection to the park is lost. The headquarters/visitor orientation facility should also be located to intercept travelers coming from the other side of the Chiricahua Mountains on Pinery Canyon Road. Therefore, the recommended location is on route 181 as close to the park entrance as possible.

The new facility would house a complete visitor orientation function as well as the park administrative offices (including those now in the Faraway Ranch), sales, artifact collection space, library, archives, and herbarium. There would be parking, including adequate space for parking for an eventual shuttle terminus, should one be necessary, and an RV dump station. The structure would have approximately 9,000 square feet of space for visitor use, 4,000 square feet of office and administrative space, and 2,000 square feet for maintenance shops, equipment, and storage, for an approximate total of 15,000 square feet of indoor space. There would be parking for approximately 200 visitors' vehicles and 4,000 square feet of outdoor maintenance storage. The facility could include joint support function with the USFS. Also, the NPS would invite USFS to use the facility to introduce visitors to the Coronado National Forest and its recreational opportunities.

As an interim step, a short-term solution to the shortage of administrative space might be to lease or rent space in Willcox. Although not an ideal solution (it was rejected as a permanent solution), this would serve temporarily to allow removing the offices from their scattered locations in the park, consolidating most of them in one location, and making the Faraway Ranch space available for visitor use and interpretation.

Visitor Transportation System—The following discussion about a transportation system involves assumptions not yet finalized. A transportation study under contract with Parsons Brinckerhoff will provide information for implementation. Final actions are dependent on the outcome of the study.

Two solutions to alleviate the parking problems would be implemented. In the short term, during the spring peak visitation season, a limited hiker shuttle would be implemented to take hikers to either Massai Point or Echo Canyon. At approximately 400 average daily visitors, the reconfigured Echo Canyon parking lot would reach capacity during the peak visitation periods. The limited hiker shuttle would be designed to keep long-term parking confined to the base of the monument, allowing more visitors to use the limited parking spaces at Massai Point and Echo Canyon. Hikers typically park at Massai Point or Echo Canyon for between three and five hours, and if the hiker were to take the shuttle instead, approximately four to eight additional sightseers would be able to park legally. Service would be similar to the existing hikers' shuttle, except for an established schedule. Service would run every two hours or other times as needed, allowing enough time for a ranger or a driver to operate the shuttle and pursue other activities. The shuttle system would need to have a capacity of approximately 50 people per day. This would eliminate 22 cars being parked long term at Massai Point and Echo Canyon. The cost of the transportation service could be paid for by a small surcharge to all visitors; volunteer enticements to hikers could be provided by waiving the entrance fee for those hikers who leave their cars at the base of the monument. Bicycle racks would be fitted onto the shuttle vehicles so that bicyclists could also be transported. To solve congestion problems for the long term, the hiker shuttle system would be doubled in size and capacity. The system would be based outside park boundaries, ideally near the new headquarters/visitor orientation facility. The enhanced hiker shuttle system would transport between 50 and 100 people per day, reducing parking demand at Massai Point and Echo Canyon by up to 44 long-term parked cars. This action would free up spaces and allow the Massai Point parking lot to operate just below maximum capacity during peak visitation hours. Service would become hourly, meaning that one full-time person would be responsible for driving a shuttle during its hours of operation. The enhanced hiker shuttle system would need significant additional capacity, new types of transit vehicles, and a more stable base of operations outside the park. This system could be operated by a monument concessioner.

Housing/Maintenance Area—All maintenance functions and fuel supplies would be removed to the new headquarters/visitor orientation facility complex, and the vacated space would be used for fire equipment and emergency medical supplies and as a rescue cache and warehouse.

Because of the monument's distance from the nearest town (37 miles to Willcox), it is necessary to have certain park employees live in the park to provide resource protection, emergency repairs, and law enforcement. All but two of the housing units are in the residential area just above the visitor center. These include permanent and seasonal housing. Another unit occupies one-half of the “guest house” on the Faraway Ranch (the other half is used for office space). The “superintendent's house,” which was acquired as part of an inholding property, is near Bonita Creek a short distance downstream from the visitor center.

All of the units are in good condition, and would be retained in their present uses. Because of the potential of flooding, when the “superintendent's house” has served its useful life, or is seriously damaged, it would be removed and the site returned to a natural condition.

There is at present no need for additional housing. As new housing authorities become available to the NPS, the need for in-park housing and the potential for providing housing outside would be reconsidered.

Boneyard—The boneyard and firearms training range impinges on the wilderness area. These inappropriate uses would be ended, and the areas would be restored to a natural appearance.

Campground—The flash flood risk of Bonita Creek affects campground users. The park would continue to operate the Bonita Creek campground in a safe and prudent manner by selective closures and flood threat awareness training for staff and visitors to Chiricahua. The selective closures of the campground would derive from use of the campground operation plan and be based upon seasonal and predicted weather conditions at the monument. Closures would occur on a day-by-day basis according to immediate observations by monument staff and weather forecasts of particular intensity and would be modified by any pre-saturation of the watershed and the season of the year. The campground operation plan would be developed by NPS as committed to in the final floodplain management statement of findings accompanying this GMP (see appendix 3 of the FEIS).

Because of the unsatisfied demand for camping (the campground is often full), NPS would cooperate with USFS, landowners, and businesses to provide additional camping opportunities outside the park. No NPS camping reservation system is anticipated because the park would work with neighbors to provide additional camping.

The campground septic system is often used to its capacity and would be replaced under the proposal.

There would be no recreation vehicle hookups or dump station added to the campground. The park would consider installing a dump station at the proposed headquarters/visitor orientation facility. For the interim a sign would be erected just inside the park entrance telling departing campers to empty their holding tanks only at approved and legal dump stations, and directing them to the nearest ones.

Trails—Staff of the monument and national forest would jointly examine opportunities for connecting trails in order to provide hikers a better and more extensive choice of routes. This would also further disperse hikers in the backcountry. The dirt road to the King of Lead Mine would be converted to a trail if and when the property is added to the monument.

King of Lead Mine—The King of Lead Mine would be acquired, and the park boundary extended to include it. In the meantime, a sign would be installed at the mine property boundary warning hikers of the open mine, abandoned equipment, and so on. When the mine is acquired, it will be evaluated for historic significance. To protect visitors, the haul road would be closed to vehicular use, returned to a natural condition (except for a foot trail), and it would be administratively added to the surrounding wilderness area.

Sugarloaf—The parking area would be configured to add day-use amenities such as more picnic tables, group ramadas, and benches. These facilities would be provided in an attempt to shift some visitor use from the Echo Canyon and Massai Point parking areas. Limited vista clearing would also occur. The Sugarloaf road, overlook, trail, and fire tower would remain unchanged.

Echo Canyon Parking and Trailhead—Under the proposal, the parking lot would be reconfigured to alleviate peak parking problems. Limited vista clearing would also occur.

Massai Point—Under existing plans, the capacity of the summit parking area would be increased, but not its area, and vehicular flow would be improved. Trailheads would be made safer, and a new rest room would be installed. Vegetation around the parking area would be thinned and pruned to restore the views. Directional and informative signs would be installed. All improvements would be done in such a way as to be compatible with the significant CCC landscape elements (to be determined by the cultural landscape inventory).

The small exhibit building, which occupies one of the best viewpoints in the monument, would continue to be used as an exhibit and interpretation facility. The exhibits would be modernized and would conform to an interpretive plan that is to be written for the summit area. A small outdoor sitting area and interpretive space would be built close to the building, and the summit would be made handicapped accessible from the parking area.

Wilderness—Except for the previously mentioned King of Lead haul road, the rehabilitation of the existing boneyard and firearms training range, and very minor trail realignments, no changes would be made to the wilderness area. A theme of the park interpretation program would be to inform people about what wilderness is, what its values are, and what is considered appropriate use for wilderness.

Potential Boundary Changes—The proposed headquarters/visitor orientation facility would be located at a place along route 181 yet to be selected. If a location contiguous with the park is selected, the park boundary could be extended to enclose it. If it is not contiguous, or very nearly so, the land could be leased or purchased by GSA but not included within the park boundary.

Fire Program—The fire program is growing, with more acreage being treated by prescribed burning in 1998 than ever in the past. The park has established a fire management officer position that will be filled in 1999, and it has begun a joint planning process with USFS for mutual burning and suppression activities on each other's lands. Implementing the proposed GMP would improve staff's ability to operate the program mainly by reducing development, structures, operations, and traffic inside the boundaries. A new headquarters/visitor orientation facility located outside the park would put much of the staff, their vehicles, park files and exhibits, maintenance equipment, and so on in a safer place, for wildland fire considerations. The new facility would be built in an area with grassy fuels, which is in sharp contrast to the dense shrub and tree cover now surrounding the visitor center, administrative site, and housing.

The dead-end road is a concern because the park has very few fire safety zones. Clearing roadsides and improving the park road would reduce travel time for fire fighters and would aid in using fire-fighting equipment, as well as moving visitors and employees away from fire danger. Parking lots can be used as fire safety zones if absolutely necessary, so work to clear brush and improve traffic flow is critical. The campground, with its location and access on a narrow one-way, dead end road, is another fire danger concern. Because the campground would not be enlarged, staff could work with the current setup and continue to improve the situation by creating fire safety zones, reducing fuels, and clearing roadsides.

Upgrading the water system would improve fire suppression capabilities for structures, especially historic buildings. Improving accessibility would also help in evacuating visitors from buildings, if necessary.

An ongoing vegetation investigation is showing historically less dense vegetation with more varied composition and structure. Fire would be used to restore historic vegetation conditions. Cultural landscape studies could include prescribed fire as a tool. Because most cultural landscapes in the park would include historic structures, fuel treatment would reduce hazards and enhance suppression efforts.

The joint planning with USFS would support using fire in the wilderness. Additionally, focusing park interpretation on wilderness, including natural processes such as fire and flooding, would lead to better public understanding and acceptance.

Commercial Services—Commercial horseback, hiking, and tour bus services originating outside the park would continue. The park would encourage others, including private business and USFS, to provide recreation vehicle and tent campground and camping supply stores outside the park.

Other activities could be added if they enhance the visitor experience, are appropriate for the park, and are consistent with resource protection prescriptions. Some of these activities might include bicycle tours and shuttle services to alleviate crowding and prevent traffic jams.

Activities would be evaluated primarily on the need for protection of resources, goals established for the visitor experience, and the need to reduce crowding and visitor conflicts. When problems are identified, the park would conduct feasibility studies to determine if proposed activities are necessary and practical and then determine the best way to provide the services.

Water System—The three separate water systems that serve the visitor center, employee housing, and campground do not meet public health standards. They would be replaced or modified as needed.

Operational Costs—Operational costs total $233,500 and are broken down in Table 1 in the FEIS.

Development Costs—Development costs total $5,881,000 and are broken down in Table 2 in the FEIS.

Other Alternatives

Alternative B

Alternative B provides a traditional park experience with increased personal services and a small number of facility enhancements. With the exceptions described below, the current level of development and interpretation and the pattern of visitor use is appropriate for Chiricahua and would be maintained. The application of management prescriptions would be exactly the same as under the proposal.

Park Road—Under this alternative, the historic significance and character of the road would be protected, but alignment could be selectively altered. Most of the road's special character would be maintained, but more alterations of the vegetation would be likely. Some minor enlargements and realignments could occur.

Bonita Picnic Area—This area would be treated the same as it would be under the Proposal.

Faraway Ranch—Treatments would be the same as under the proposal except that the focus of efforts would be centered on the historic structures. There would be little to no modification of the landscape.

Overhead power and telephone lines would be removed and installed underground in the immediate vicinity of the structures.

The trail along Bonita Creek, from the picnic area to Stafford Cabin, would be accessible for visitors with mobility impairments.

There would be limited access to selected buildings by the public. Some administrative functions would continue in the area. Climate control would be used to protect the historic furnishings. A fire suppression system would be used to protect the house and contents.

The water system would connect to the main visitor center/housing area. A standpipe would be installed near the parking lot for wildfire suppression, and the water system would extend to the ranch parking area. The two-way trail would be enlarged into a loop trail.

Headquarters and Visitor Orientation Facility—Under this alternative, administrative facilities would only be built outside the park and no new visitor orientation facility would be constructed. There would be no further development in the park and no additional services for RVs.

Short-term lease or rent space for administrative services would be explored in Willcox, and a joint support function would be considered with the U.S. Forest Service.

Visitor Transportation System—Options under this alternative are the same as for the proposal.

Housing/Maintenance Area—Under this alternative there would be no changes in current operation except that

(1) all housing units would be retained in present use;

(2) the superintendent's house eventually would be removed and the site returned to a natural condition; and,

(3) the need for in-park housing and potential for providing housing outside the park would both be considered.

Boneyard—The boneyard and firearms training range impinges on the wilderness area. These inappropriate uses would be ended, and the areas would be restored to a natural appearance.

Campground—Treatment for this area would be the same as described under the proposal.

Trails—Treatment of trails would be the same as described for the proposal.

King of Lead Mine—Treatment of the mine would be the same as it would be under the proposal.

Sugarloaf—Under this alternative there would be no change.

Echo Canyon Parking and Trailhead—Under this alternative there would be no change.

Massai Point—Treatment of the area would be the same as described under the proposal.

Wilderness—Treatment of wilderness would be the same as described for the proposal.

Potential Boundary Changes—Under this alternative there would be no changes to park boundaries.

Fire Program—The fire program would be the same as described under the proposal, except that no improvements through reductions of development would take place. Facilities outside the park would be confined to administrative functions with little or no support to the fire program.

Commercial Services—Commercial services would be the same as for the proposal.

Water System—Water systems would be upgraded to meet public health standards.

Operational Costs—Operational costs total $233,500 and are broken down in Table 1 of the FEIS.

Development Costs—Development costs total $5,881,000 and are broken down in Table 2 of the FEIS.

No-Action Alternative

All environmental documents are required to analyze at least two alternatives'a proposal and a no-action alternative. Under the no-action alternative, existing conditions as described below would continue at Chiricahua NM.

Park Road—With possible minor exceptions for safety, the existing width and alignment of the road would be permanently retained. Pullouts, trailheads, and parking areas along the road would not be enlarged.

Bonita Picnic Area—Existing development would be retained.

Faraway Ranch—The only landscape treatment would be continued maintenance and fire protection. The fences, corrals, and outbuildings would not be restored to their historic appearance, and buildings would not be made accessible. In the absence of a new headquarters/visitor orientation facility, administrative functions would remain in the ranch buildings. Lacking the proposed connection of the ranch to the main park water system, the ranch house and its contents would remain at risk of fire. The collections in the house would remain unprotected by a climate control system. Visitors would continue to approach and leave the main buildings by the existing two-way trail.

Visitor Center—In the absence of a new headquarters/visitor orientation facility, the existing conditions of crowded working conditions, inadequate parking, and inadequate interpretive space would continue.

Housing/Maintenance Area—Maintenance activities would remain in the present location, so that space would not be available for other uses. The housing area would be the same as described under the proposal.

Boneyard—This inconsistent use of the wilderness area would remain.

Campground—The existing campground would be retained, and the septic system would not be replaced.

Trails—Existing trails would be retained in the no-action alternative.

King of Lead Mine—No further steps would be taken with the state and the mine owner to mitigate the mine pollution and to acquire the property. The haul road would not be added to the surrounding wilderness. A warning sign would be erected.

Sugarloaf—The Sugarloaf road, overlook area, trail, and fire tower would remain unchanged.

Echo Canyon Parking and Trailhead—The overlook, parking, and trailhead area would remain unchanged.

Massai Point—Under existing plans, the capacity (but not the area) of the summit parking area would be increased and vehicular flow would be improved. Trailheads would be made safer, and a new rest room would be installed. Vegetation around the parking area would be thinned and pruned to restore the views. Directional and informative signs would be installed.

The small exhibit building, which occupies one of the best viewpoints in the monument, would continue to be used as an exhibit and interpretation facility. The exhibits would be modernized to conform to an interpretive plan to be written for the summit area. A small outdoor sitting area and interpretive space would be built close to the building, and the summit would be made handicapped accessible from the parking area.

Wilderness Area—There would be no changes in the wilderness area.

Potential Boundary Changes—There would be no changes in the park's boundary.

Fire Program—Some of the fire program would be the same in this alternative as with the proposal. The fire management officer position would be filled, and the park would continue joint planning with USFS. Acreage burned would increase to reduce fuels and to restore fire as an ecosystem process.

The difference is that fire hazards and safety risks would be higher for people and structures despite fire planning for suppression. Facilities, housing, campgrounds, traffic flows, and so on would remain in the current state, which hinders fire management operations. Roads and parking lots would not be cleared or improved, which increases the risk of entrapment and delays response time for fire fighters and equipment. Inadequate water systems do not provide for suppression capabilities for historic structures or other facilities. Cultural landscape information would not be available for restoring historic scenes. Lack of interpretation focus on wilderness would affect public understanding and appreciation of natural forces, such as fire and flooding, as well as of land-use ethics.

Commercial Services—Commercial horseback, hiking, and tour bus services originating outside the park would continue.

Water System—The three separate water systems that serve the visitor center, employee housing, and campground do not meet public health standards. They would be replaced or modified as needed.

Operational Costs—Costs are already reflected in the park's annual operating budget.

Development Costs—There are no development costs associated with this alternative.

Basis for Decision

After careful consideration of public comments received throughout the planning process, including comments on the Chiricahua General Management Plan/Draft Environmental Impact Statement, Alternative A has been selected for this Record of Decision. This alternative best accomplishes the legislated purposes of Chiricahua National Monument and the statutory mission of the National Park Service to provide long-term protection of Chiricahua National Monument's resources and values while allowing for visitor use and visitor enjoyment. The selected action also best accomplishes the stated purposes of the Chiricahua General Management Plan (as described on page 1-20 Purpose and Need, of the Final Chiricahua General Management Plan/Supplemental Environmental Impact Statement). Consequently, the selected action conserves values embodied in the Organic Act to:

• Accomplish the mission of the National Park Service,

• Achieve the purposes and criteria of the Chiricahua General Management Plan, and

• Prevents impairment of park resources in a manner that meets legal and policy requirements.

Protect and Enhance Natural and Cultural Resources

Through its combination of restoration of areas to natural conditions, resource protection, and the location or relocation of facilities, Alternative A exceeds the other alternatives in its protection and enhancement of natural resources and removal of facilities from highly valued resource areas. Alternative B provides some of the same protection, but does not include support for some important safety and visitor park programs.

Alternative A protects highly valued natural and cultural resources through the restoration Arizona vegetation communities and a historical road. Habitat connectivity encourages biodiversity and promotes a more stable biological system.

Alternative A reduces the total amount of development in the park, by moving all new infrastructure outside the park. Facilities no longer needed or that adversely impact resources will be removed from highly valued areas and new facilities will be located largely outside these areas. They will be placed in such a way as to avoid or minimize disruption of natural processes.

Alternative A provides the best alternative for mitigating the campground flash flood risk of Bonita Creek to campground users. The park would continue to operate the Bonita Creek campground in a safe and prudent manner by selective closures and flood threat awareness training for staff and visitors to Chiricahua. The selective closures of the campground would derive from use of the campground operation plan and be based upon seasonal and predicted weather conditions at the monument. Closures would occur on a day-by-day basis according to immediate observations by monument staff and weather forecasts of particular intensity and would be modified by any presaturation of the watershed and the season of the year. The campground operation plan would be developed by NPS as committed to in the final floodplain management statement of findings accompanying this GMP (see appendix 3).

Alternative A will better preserve the historic integrity of the area than the other action alternatives by retaining character-defining features at Faraway Ranch. In summary, Alternative A includes actions that are major and beneficial to the natural resources, and generally more beneficial to cultural resources than other alternatives.

Enhance Visitor Experience

The criteria to enhance the visitors' experience by fostering a diversity of opportunities and by encouraging a high degree of resource stewardship through interpretation, orientation, and education, will be best achieved by implementing Alternative A.

Day-visitor parking in Alternative A provides for day-visitor parking at Massai Point and increased accessibility access along the Park Road and at Faraway Ranch. terms of visitor access.

Each of the action alternatives provides increased opportunities for experiencing Chiricahua on foot by providing additional trails.

Provide Effective Operations

The management of park-wide operations would move to a new headquarters/visitor orientation facility/administrative area just outside park. Other functions not essential for Chiricahua operations will also be relocated under each of the action alternatives.

Provide Appropriate Land Uses

The criterion articulated in the Purpose and Need of the Final Chiricahua General Management Plan/FEIS to site new facilities so that, in aggregate, they help achieve a benefit for park resources, will be met under Alternative A. Of the facilities to be removed in Chiricahua, most are to be removed from highly valued resource areas. If the function is to be retained in Chiricahua, in most cases it will be relocated outside of highly valued resource areas.

Findings on Impairment of Park Resources and Values

The National Park Service has determined that implementation of Alternative A of the Chiricahua General Management Plan will not constitute an impairment to Chiricahua National Monument's resources and values. This conclusion is based on a thorough analysis of the environmental impacts described in the Final Chiricahua General Management Plan/FEIS, the public comments received, relevant scientific studies, and the professional judgment of the decision-maker guided by the direction Management Policies 2001. While the plan has some negative impacts, in all cases these adverse impacts are the result of actions taken to preserve and restore other park resources and values. Overall, the plan results in benefits to park resources and values, opportunities for their enjoyment, and it does not result in their impairment.

In determining whether impairment may occur, park managers consider the duration, severity, and magnitude of the impact; the resources and values affected; and direct, indirect, and cumulative effects of the action. According to National Park Service Policy, “An impact would be more likely to constitute an impairment to the extent that it affects a resource or value whose conservation is: (a) Necessary to fulfill specific purposes identified in the establishing legislation or proclamation of the park; (b) Key to the natural or cultural integrity of the park or to opportunities for enjoyment of the park; or (c) Identified as a goal in the park's general management plan or other relevant National Park Service planning documents.”

This policy does not prohibit impacts to park resources and values. The National Park Service has the discretion to allow impacts to park resources and values when necessary and appropriate to fulfill the purposes of a park, so long as the impacts do not constitute impairment. Moreover, an impact is less likely to constitute impairment if it is an unavoidable result of an action necessary to preserve or restore the integrity of park resources or values.

Human activity and past development have resulted in the ongoing disruption of natural systems and processes in Chiricahua for generations. The No Action Alternative would result in future unplanned and uncoordinated actions that are merely reactive to immediate concerns. Furthermore, these actions would likely be responsive to immediate, short-term, adverse impacts that demand attention, but may result in long-term impairment to park values and resources.

The actions comprising Alternative A will achieve the goals of the Chiricahua General Management Plan (which include protecting and enhancing the natural and cultural resources of Chiricahua and providing opportunities for high-quality, resource-based visitor experiences) in a comprehensive, integrated manner that takes into account the interplay between resource protection and visitor use. Actions implemented under Alternative B that will cause overall negligible adverse impacts, minor adverse impacts, short term impacts, and beneficial impacts to park resources and values, as described in the Final Chiricahua General Management Plan/FEIS will not constitute impairment. This is because these impacts have limited severity and/or duration and will not result in appreciable irreversible commitments of resources. Beneficial effects identified in the Final FEIS include effects related to restoring and protecting park resources and values.

In conclusion, the National Park Service has determined that the implementation of Alternative A will not result in impairment of resources and values in Chiricahua National Monument.

Environmentally Preferable Alternative

Environmentally preferable is defined as “the alternative that will promote the national environmental policy as expressed in the National Environmental Policy Act's section 101. NEPA section 101 states that * * * it is the continuing responsibility of the Federal Government to * * * (1) Fulfill the responsibilities of each generation as trustee of the environment for succeeding generations; (2) assure for all Americans safe, healthful, productive, and aesthetically and culturally pleasing surroundings; (3) attain the widest range of beneficial uses of the environment without degradation, risk to health or safety, or other undesirable and unintended consequences; (4) preserve important historic, cultural, and natural aspects of our national heritage, and maintain, wherever possible, an environment which supports diversity, and variety of individual choice; (5) achieve a balance between population and resource use which will permit high standards of living and a wide sharing of life's amenities; and (6) enhance the quality of renewable resources and approach the maximum attainable recycling of depletable resources.” The environmentally preferable alternative for the Chiricahua General Management Plan is based on these national environmental policy goals.

Alternative A

This alternative will realize each of the provisions of the national environmental policy goals stated in NEPA section 101. Alternative A will protect and enhance values Chiricahua NM. These actions will further goals 1, 3, and 4 of NEPA section 101.

Alternative B

This alternative would be nearly as effective as Alternative A in realizing the provisions of the national environmental policy goals in section 101 of NEPA. Overall, the benefit and effect of the alternative's environmental restoration and visitor services and facility development activities would be similar to those described under Alternative A.

No Action

This alternative represents the current management direction with no dramatic or comprehensive changes taking place in the management of Chiricahua NM. Although the No Action alternative would include the least change to cultural resources, it would not result in the same level of environmental protection and restoration for natural resources, including floodplains as would occur under the various action alternatives. In having lesser protection and restoration of natural resources, including highly valued resources, the No Action alternative would not fully achieve provisions 1, 3, 4, and 5 of section 101 of NEPA. Although existing patterns of visitor use would continue, traffic congestion and existing impacts upon visitor experience in Chiricahua NM would not be remedied. Compared to the action alternatives, the No Action alternative would be least effective in attaining goal 3 of NEPA, as described in section 101, in that it would have the narrowest range of beneficial uses that would occur without degradation of natural and cultural resources in Chiricahua NM. Because of existing impacts that are not remedied and that relate to provisions 1, 2, 3, 4, and 5 of section 101 (as discussed above), these provisions would not be realized by the No Action Alternative.

Summary

The National Park Service has determined that the environmentally preferable alternative is Alternative A. While some specific actions under other alternatives may achieve similar or in some cases greater levels of protection for certain cultural resources, natural resources, and/or visitor experience than under Alternative A, in aggregate, this alternative best achieves the six conditions prescribed under section 101 of NEPA. While many of the actions in other alternatives may be similar to Alternative A in their effect and consequence, Alternative A (1) provides a high level of protection of natural and cultural resources while concurrently attaining the widest range of neutral and beneficial uses of the environment without degradation; (2) maintains an environment that supports diversity and variety of individual choice; and (3) integrates resource protection with opportunities for an appropriate range of visitor uses.

Measures To Minimize Environmental Harm

The National Park Service has investigated all practical means to avoid or minimize environmental impacts that could result from implementation of the selected action. The measures have been incorporated into Alternative A, and are presented in detail in the Final Chiricahua General Management Plan/Supplemental Environmental Impact Statement.

A consistent set of mitigation measures would be applied to actions that result from this plan. Monitoring and enforcement programs will oversee the implementation of mitigation measures. These programs will assure compliance monitoring; biological and cultural resource protection; traffic management, noise, and dust abatement; noxious weed control; pollution prevention measures; visitor safety and education; revegetation; architectural character; and other mitigation measures.

Mitigation measures will also be applied to future actions that are guided by this plan. In addition, the National Park Service will prepare appropriate compliance reviews (i.e., National Environmental Policy Act, National Historic Preservation Act, and other relevant legislation) for these future actions.

Public and Interagency Involvement

On June 14, 1999, the National Park Service published in the Federal Register (Vol 64 Number 58 pg 16487-88) a notice of intent to prepare an environmental impact statement for the Chiricahua General Management Plan. The Final Chiricahua General Management Plan/FEIS has been developed pursuant to sections 102(2)” of the National Environmental Policy Act (Public Law 91-190) and the Council on Environmental Quality regulations (40 CFR 1508.22). Through scoping, a formal public comment process, public meetings and outreach, and meetings with government entities on the Draft Chiricahua General Management Plan/DEIS, the National Park Service conducted this planning process in consultation with affected federal agencies, state and local governments, tribal groups, and interested organizations and individuals.

Scoping

Scoping typically occurs at the beginning of a planning process. However, in the case of the Draft Chiricahua General Management Plan/FEIS, scoping began in 1992. Scoping sessions by the park staff, a public open house, a press release, and a letter to 392 people on the mailing list for both Chiricahua NM and Fort Bowie National Historic Site (NHS) raised a series of issues. After a national reorganization in the National Park Service, the general management planning process was restarted in 1996 with a different planning team. The first step in the second process was a review of the work previously done and the incorporation of the 1992 public comments.

In early May 1998, a newsletter was mailed to all interested parties and those on the park mailing list informing them of GMP projects for both Chiricahua NM and Fort Bowie NHS. The newsletter invited the public to attend meetings to discuss both plans. Notices of the public meetings were also sent to nearby newspapers. Four meetings were held the week of May 18th in the towns of Portal, Willcox, and Bowie, and at a school just outside of Chiricahua NM. A total of 19 people attended the meetings. The GMP process for each park was described at each meeting, as were the two parks. There was general appreciation expressed for the parks, and recommendations were made not to change them.

All suggestions were discussed and notes were taken. Another 24 mailed responses were received from newspaper readers. Letters were also sent to six Apache tribes and one nation in Arizona, New Mexico, and Oklahoma, and to two interested individual American Indians. No responses were received.

A Notice of Intent to publish an Environmental Impact Statement was published in the Federal Register in June of 1999. A 30-day public comment period followed ending on July 15, 1999. A Web site (http://www.nps.gov/planning/chir) was established to facilitate making information about the planning process available to the public. A total of 5 responses were received requesting information on the planning process. Groups included one organization interested in land issues, one interested in handicapped accessibility, and two unaffiliated individuals.

The DEIS NOA announced the availability of the Draft Chiricahua General Management Plan/DEIS and solicited comments from the public through January 2000. The final incorporation of public comment is part of the Final Chiricahua General Management Plan/FEIS and documented in Appendix 4 , March 2001, made available for public review per the Notice of Availability published in the Federal Register, March 26, 2001 (Vol 66 Number 58 pg 16487-88).

Conclusion

Alternative A provides the most comprehensive and effective method among the alternatives considered for meeting the National Park Service's purposes, goals, and criteria for managing Chiricahua National Monument and for meeting national environmental policy goals. The selection of Alternative A, as reflected by the analysis contained in the environmental impact statement, would not result in the impairment of park resources and would allow the National Park Service to conserve park resources and provide for their enjoyment by visitors.

Dated: June 18, 2001.
Alan W. Cox,
Superintendent, Chiricahua National Monument, National Park Service.
Dated: June 19, 2001.
Michael D. Synder,
Acting Director, Intermountain Region, National Park Service.

[FR Doc. 01-28302 Filed 11-9-01; 8:45 am]

BILLING CODE 4310-70-P